DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the new Information Collection abstracted below has been forwarded to the Office of Management and Budget (OMB) for emergency processing. The Maritime Administration (MARAD) is requesting approval of this collection for the period December 9, 2005 to September 30, 2006. With this one-time survey, MARAD has made a concerted effort to keep the burden on the public to an absolute minimum.

DATES: Comments must be submitted on or before December 30, 2005.

FOR FURTHER INFORMATION CONTACT: Gilda Lee, Maritime Administration, 400 Seventh Street Southwest, Washington, DC 20590. Telephone: 202-366-3971; FAX: 202-366-3746; or E-MAIL: gilda.lee@dot.gov. Copies of this collection also can be obtained from that office.

SUPPLEMENTARY INFORMATION: Maritime Administration (MARAD).

Title: Great Lakes/St. Lawrence Seaway Survey for the New Cargoes/New Vessels Study.

OMB Control Number: 2133-NEW.

Type of Request: Emergency approval of a one-time collection.

Affected Public: Great Lakes/St. Lawrence Seaway shippers.

Forms: Great Lakes/St. Lawrence Seaway System Shipper Survey (Un-numbered)

Abstract: The United States and Canada are jointly undertaking a multi-year assessment of the Great Lakes/St. Lawrence Seaway (GLSLS) System. This assessment will evaluate the ongoing maintenance and long-term capital requirements to ensure the GLSLS system is a competitive, reliable and sustainable component of North America's transportation infrastructure.

Annual Estimated Burden Hours: 433 hours.

ADDRESSES: Send comments to the Office of Information and Regulatory Affairs, Office of Management and Budget, 725 17th Street Northwest, Washington, DC 20503, Attention MARAD Desk Officer.

Comments are invited on: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology. A comment to OMB is best assured of having its full effect if OMB receives it within 30 days of publication.

Authority: 49 CFR 1.66.

Issued in Washington, DC, on November 23, 2005.
Murray A. Bloom,
Acting Secretary, Maritime Administration.

[FR Doc. 05-23477 Filed 11-29-05; 8:45 am]

BILLING CODE 4910-81-P